DEPARTMENT OF COMMERCE

Foreign-Trade Zones Board

Docket T-4-2006

Foreign-Trade Zone 222 Montgomery, AL

Application for Temporary/Interim Manufacturing Authority

Arvin Meritor, Inc.

(Automotive Parts)

An application has been submitted to the Executive Secretary of the Foreign-Trade Zones Board (the Board) by the Montgomery Area Chamber of Commerce, grantee of FTZ 222, requesting temporary/interim manufacturing (T/IM) authority within FTZ 222 at the Arvin Meritor, Inc. (Arvin Meritor) automotive parts manufacturing facility located in Montgomery, Alabama. The application was filed on October 20, 2006.

The Arvin Meritor facility (150 employees, annual capacity for up to 1.5 million door modules) is located at 139 Folmar Parkway, within the Interstate Industrial Park (FTZ 222 - Site 1). Under T/IM procedures, Arvin Meritor would assemble door modules (HTSUS 8708.29) for the Hyundai Motor Manufacturing Alabama, LLC plant (SZ 222A) using foreign-sourced latch assemblies (HTSUS 8301.20). T/IM authority could be granted for a period of up to two years. Arvin Meritor has also submitted a request for permanent FTZ manufacturing authority (for which Board filing is pending), which includes a range of additional inputs.

FTZ procedures would exempt Arvin Meritor from Customs duty payments on the foreign components used in production for export to non-NAFTA countries. On domestic shipments transferred in-bond to U.S. automobile assembly plants with subzone status, no duties would be paid on the foreign origin latch assemblies used in automobile and light truck production until the finished vehicles are formally entered for consumption, at which time the finished automobile duty rate (2.5%) would be applied to the foreign-origin components. For the individual door modules withdrawn directly by Arvin Meritor for Customs entry, the finished automotive part rate (2.5%) could be applied to the foreign origin latch assemblies (5.7%). The company indicates that it would also realize savings under FTZ procedures for the following reasons: duty deferral, duty exemption on scrap/waste, and logistical/paperwork efficiencies.

Public comment is invited from interested parties. Submissions shall be addressed to the Board's Executive Secretary at the following address: Office of the Executive Secretary, Foreign-Trade Zones Board, Room 1115, U.S. Department of Commerce, 1401 Constitution Avenue, NW, Washington, DC 20230. The closing period for their receipt is November 29, 2006.

A copy of the application will be available for public inspection at the Office of the Foreign-Trade Zones Board's Executive Secretary at the address listed above.

Dated: October 20, 2006.
Pierre V. Duy,
Acting Executive Secretary

[FR Doc. E6-18179 Filed 10-27-06; 8:45 am]

BILLING CODE 3510-DS-S